ENVIRONMENTAL PROTECTION AGENCY

[OPP-2004-0350; FRL-7684-8]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2004 to September 30, 2004 to control unforseen pest outbreaks.

FOR FURTHER INFORMATION CONTACT: See each emergency exemption or denial for the name of a contact person. The following information applies to all contact persons: Branch Chief, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification number OPP-2004-0350. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arkansas

State Plant Board

Crisis: On July 6, 2004, for the use of sodium chlorate on wheat as a harvest aid. This program ended on July 10, 2004. Contact: (Libby Pemberton)

On September 3, 2004, for the use of acephate on soybeans to control stink bugs. This program ended on September 18, 2004. Contact: (Libby Pemberton)

Quarantine: EPA authorized the use of propiconazole on soybeans to control soybean rust; effective from the time when soybean rust is introduced to the U.S., to March 1, 2007. Contact: (Andrew Ertman)

California

Environmental Protection Agency, Department of Pesticide Regulation

Specific: EPA authorized the use of myclobutanil on peppers to control powdery mildew; August 5, 2004 to October 15, 2004. Contact: (Stacey Groce)

Colorado

Department of Agriculture

Specific: EPA authorized the use of acibenzolar-S-methyl on onions to control iris yellow spot virus; July 27, 2004 to September 1, 2004. Contact: (Libby Pemberton)

Florida

Department of Agriculture and Consumer Services

Crisis: On July 21, 2004, for the use of thiophanate-methyl on cotton to control fusarium. This program ended on August 5, 2004. Contact: (Stacey Groce)

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Idaho

Department of Agriculture

Specific: EPA authorized the use of diflubenzuron on alfalfa to control Mormon crickets and grasshoppers; September 7, 2004 to October 31, 2004. Contact: (Libby Pemberton)

Kansas

Department of Agriculture

Quarantine: EPA authorized the use of myclobutanil on soybeans to control soybean rust; effective from the time when soybean rust is introduced to the U.S., to March 1, 2007. Contact: (Andrew Ertman)

Kentucky

Department of Agriculture

Crisis: On June 25, 2004, to allow reduced plant back interval to soybeans in flooded corn fields previously treated with mesotrione or atrazine. This program ended on July 9, 2004. Contact: (Libby Pemberton)

On July 27, 2004, for the use of azoxystrobin on tobacco to control blue mold. This program ended on October 15, 2004. Contact: (Libby Pemberton)

Louisiana

Department of Agriculture and Forestry

Crisis: On September 3, 2004, for the use of acephate on soybeans to control stink bugs. This program ended on September 18, 2004. Contact: (Libby Pemberton)

Specific: EPA authorized the use of methoxyfenozide on soybeans to control soybean loopers and saltmarsh catepillar; July 14, 2004 to September 30, 2004. Contact: (Stacey Groce)

Massachusetts

Department of Food and Agriculture

Specific: EPA authorized the use of thiamethoxam on cranberries to control cranberry weevil; August 12, 2004 to October 1, 2004. Contact: (Stacey Groce)

Minnesota

Department of Agriculture

Quarantine: EPA authorized the use of tebuconazole on soybeans to control soybean rust; effective from the time when soybean rust is introduced to the U.S., to March 1, 2007. Contact: (Andrew Ertman)

Mississippi

Department of Agriculture and Commerce

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Missouri

Department of Agriculture

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Montana

Department of Agriculture

Specific: EPA authorized the use of diflubenzuron on alfalfa to control Mormon crickets and grasshoppers; September 7, 2004 to October 31, 2004. Contact: (Libby Pemberton)

New York

Department of Environmental Conservation

Crisis: On July 21, 2004, for the use of quinoxyfen on cucurbits to control powdery mildew. This program ended on September 30, 2004. Contact: (Stacey Groce)

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

North Carolina

Department of Agriculture

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Specific: EPA authorized the use of tebufenozide on sweet potatoes to control armyworms; July 23, 2004 to December 31, 2004. Contact: (Andrew Ertman)

EPA authorized the use of bifenthrin on sweet potatoes to control beetle complex; August 12, 2004 to September 30, 2004. Contact: (Libby Pemberton)

North Dakota

Department of Agriculture

Specific: EPA authorized the use of zeta-cypermethrin on flax to control grasshoppers; July 28, 2004 to September 30, 2004. Contact: (Libby Pemberton)

Ohio

Department of Agriculture

Quarantine: EPA authorized the use of propiconazole on soybeans to control soybean rust; effective from the time when soybean rust is introduced to the U.S., to March 1, 2007. Contact: (Andrew Ertman)

Specific: EPA authorized the use of dimethenamid-p on green onions to control common purslane and prostrate pigweed; August 31, 2004 to November 15, 2004. Contact: (Stacey Groce)

Oklahoma

Department of Agriculture

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Oregon

Department of Agriculture

Specific: EPA authorized the use of bifenazate on potatoes to control spider mites; August 1, 2004 to September 15, 2004. Contact: (Andrew Ertman)

Pennsylvania

Department of Agriculture

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

South Carolina

Clemson University

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

EPA authorized the use of tebuconazole on soybeans to control soybean rust; effective from the time when soybean rust is introduced to the U.S., to March 1, 2007. Contact: (Andrew Ertman)

South Dakota

Department of Agriculture

Quarantine: EPA authorized the use of tebuconazole on soybeans to control soybean rust; effective from the time when soybean rust is introduced to the U.S., to March 1, 2007. Contact: (Andrew Ertman)

Texas

Department of Agriculture

Crisis: On June 25, 2004, for the use of hexythiazox on corn to control the Banks grass mite and the two-spotted spider mite. This program ended on August 31, 2004. Contact: (Andrew Ertman)

Quarantine: EPA authorized the use of myclobutanil on soybeans to control soybean rust; effective from the time when soybean rust is introduced to the U.S., to March 1, 2007. Contact: (Andrew Ertman)

EPA authorized the use of propiconazole on soybeans to control soybean rust; effective from the time when soybean rust is introduced to the U.S., to March 1, 2007. Contact: (Andrew Ertman)

Specific: EPA authorized the use of hexythiazox on corn to control the Banks grass mite and the two-spotted spider mite; June 25, 2004 to August 31, 2004. Contact: (Andrew Ertman)

Washington

Department of Agriculture

Specific: EPA authorized the use of bifenazate on potatoes to control spider mites; August 1, 2004 to September 15, 2004. Contact: (Andrew Ertman)

B. Federal Departments and Agencies

Agriculture Department

Animal and Plant Health Inspector Service

Quarantine: EPA authorized the use of paraformaldehyde to decontaminate high security animal laboratories, biological safety cabinets, equipment, and holding rooms at the following USDA facilities: (1) National Animal Disease Center (NADC), Ames, Iowa; (2) National Veterinary Services Laboratories (NVSL): Diagnostic Virology and Diagnostic Bacteriology Laboratories, Ames, Iowa; (3) Center for Biologics Laboratories (CVBL), Ames, Iowa; (4) NVSL Foreign Animal Disease Diagnostic Laboratory (FADDL), Plum Island, New York; (5) the Plum Island Animal Disease Center (PIADC), Plum Island, N.Y., and (6) the National Wildlife Research Center (NWRC) in Fort Collins, Colorado; July 30, 2004, to July 30, 2007. Contact: (Libby Pemberton)

Defense Department

Quarantine: EPA authorized the use of paraformaldehyde on biological safety cabinets, glove boxes, ductwork and unique items to prevent the release of infectious microorganisms from containment areas at ECBC facilities at Aberdeen Proving Ground, MD; July 30, 2004, to July 30, 2007. Contact: (Libby Pemberton)

List of Subjects

Environmental protection, Pesticides and pest.

Dated: December 9, 2004.
Lois Rossi,
Director, Registration Division, Office of Pesticide Programs.

[FR Doc. 04-27771 Filed 12-21-04; 8:45 am]

BILLING CODE 6560-50-S